DEPARTMENT OF AGRICULTURE

Forest Service

Notice of Meeting; Federal Lands Recreation Enhancement Act (Title VIII, Pub. L. 108-447)

AGENCY: Pacific Southwest Region, Forest Service, U.S. Department of Agriculture.

ACTION: Notice of meeting.

SUMMARY: The Pacific Southwest Recreation Resource Advisory Committee (Recreation RAC) will hold a meeting in Sacramento, California. The purpose of this meeting is to make recommendations for fee proposals on lands managed by the Forest Service and Bureau of Land Management in California. The Recreation RRAC will consider fee proposals for increases in expanded amenity fees and the elimination of an expanded amenity fee from the Klamath National Forest. In addition presentations will be made on Recreation Facility Analysis, campground concessionaire program and future fee concepts from the Forest Service.

DATES: The meeting will be held October 16, 2008 from 9 a.m. to 3 p.m.

ADDRESSES: The meeting will be held at the BLM California Office, 2800 Cottage Way, W-1928, Sacramento, CA 95825. Send written comments to Marlene Finley, Designated Federal Official for the Pacific Southwest Region Recreation RAC, 1323 Club Drive, Vallejo, CA 94592, 707-562-8856 or mfinley01@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 9:30 a.m. on October 16. Comments will be limited to three minutes per person. The Recreation RAC is authorized by the Federal Land Recreation Enhancement Act, which was signed into law by President Bush in December 2004.

Dated: September 22, 2008.
Greg Greenway,
Acting for Designated Federal Official, Recreation RAC, Pacific Southwest Region.

[FR Doc. E8-22771 Filed 9-29-08; 8:45 am]

BILLING CODE 3410-11-M